DEPARTMENT OF ENERGY

Federal Energy Regulatory Commission

Combined Notice of Filings #1

Take notice that the Commission received the following exempt wholesale generator filings:

Docket Numbers: EG24-119-000.

Applicants: EDPR Scarlet II BESS LLC.

Description: EDPR Scarlet II BESS LLC submits Notice of Self-Certification of Exempt Wholesale Generator Status.

Filed Date: 2/27/24.

Accession Number: 20240227-5146.

Comment Date: 5 p.m. ET 3/19/24.

Docket Numbers: EG24-120-000.

Applicants: EDPR Scarlet II LLC.

Description: EDPR Scarlet II LLC submits Notice of Self-Certification of Exempt Wholesale Generator Status.

Filed Date: 2/27/24.

Accession Number: 20240227-5147.

Comment Date: 5 p.m. ET 3/19/24.

Take notice that the Commission received the following electric rate filings:

Docket Numbers: ER24-797-001.

Applicants: PJM Interconnection, L.L.C.

Description: Tariff Amendment: Amendment of Original CRA, SA No. 7158; NQ213 in Docket ER24-797-000 to be effective 12/1/2023.

Filed Date: 2/27/24.

Accession Number: 20240227-5136.

Comment Date: 5 p.m. ET 3/19/24.

Docket Numbers: ER24-798-001.

Applicants: Southwest Power Pool, Inc.

Description: Tariff Amendment: 1628R25 Western Farmers Electric Cooperative NITSA NOAs to be effective 12/1/2023.

Filed Date: 2/27/24.

Accession Number: 20240227-5062.

Comment Date: 5 p.m. ET 3/19/24.

Docket Numbers: ER24-1327-000.

Applicants: Tri-State Generation and Transmission Association, Inc.

Description: § 205(d) Rate Filing: Initial Filing of Rate Schedule No. 365 to be effective 12/31/9998.

Filed Date: 2/26/24.

Accession Number: 20240226-5236.

Comment Date: 5 p.m. ET 3/18/24.

Docket Numbers: ER24-1328-000.

Applicants: Atrisco Solar LLC.

Description: Baseline eTariff Filing: Application for Market Based Rate Authority to be effective 5/1/2024.

Filed Date: 2/26/24.

Accession Number: 20240226-5242.

Comment Date: 5 p.m. ET 3/18/24.

Docket Numbers: ER24-1329-000.

Applicants: Atrisco Energy Storage LLC.

Description: Baseline eTariff Filing: Application for Market Based Rate Authority to be effective 5/1/2024.

Filed Date: 2/26/24.

Accession Number: 20240226-5245.

Comment Date: 5 p.m. ET 3/18/24.

Docket Numbers: ER24-1330-000.

Applicants: Quail Ranch Solar LLC.

Description: Baseline eTariff Filing: Application for Market Based Rate Authority to be effective 8/1/2025.

Filed Date: 2/26/24.

Accession Number: 20240226-5246.

Comment Date: 5 p.m. ET 3/18/24.

Docket Numbers: ER24-1331-000.

Applicants: Quail Ranch Energy Storage LLC.

Description: Baseline eTariff Filing: Application for Market Based Rate Authority to be effective 8/1/2025.

Filed Date: 2/26/24.

Accession Number: 20240226-5249.

Comment Date: 5 p.m. ET 3/18/24.

Docket Numbers: ER24-1332-000.

Applicants: Entergy Louisiana, LLC.

Description: § 205(d) Rate Filing: DEMCO LBA Agreement to be effective 4/1/2024.

Filed Date: 2/26/24.

Accession Number: 20240226-5261.

Comment Date: 5 p.m. ET 3/18/24.

Docket Numbers: ER24-1334-000.

Applicants: Southwest Power Pool, Inc.

Description: § 205(d) Rate Filing: Basin Electric Schedule 2 to Attachment J Clarification to be effective 4/29/2024.

Filed Date: 2/27/24.

Accession Number: 20240227-5061.

Comment Date: 5 p.m. ET 3/19/24.

Docket Numbers: ER24-1335-000.

Applicants: Pacific Gas and Electric Company.

Description: § 205(d) Rate Filing: TO21 Revisions to Formula Rate: CGI Depreciation Rates to be effective 4/29/2024.

Filed Date: 2/27/24.

Accession Number: 20240227-5104.

Comment Date: 5 p.m. ET 3/19/24.

Docket Numbers: ER24-1336-000.

Applicants: White Wing Ranch North, LLC.

Description: Baseline eTariff Filing: Market-Based Rate Application and Request for Expedited Action to be effective 4/12/2024.

Filed Date: 2/27/24.

Accession Number: 20240227-5115.

Comment Date: 5 p.m. ET 3/19/24.

Docket Numbers: ER24-1337-000.

Applicants: Alabama Power Company, Georgia Power Company, Mississippi Power Company.

Description: § 205(d) Rate Filing: Alabama Power Company submits tariff filing per 35.13(a)(2)(iii: Three Rocks Solar LGIA Filing to be effective 2/15/2024.

Filed Date: 2/27/24.

Accession Number: 20240227-5122.

Comment Date: 5 p.m. ET 3/19/24.

Docket Numbers: ER24-1338-000.

Applicants: Alabama Power Company, Georgia Power Company, Mississippi Power Company.

Description: § 205(d) Rate Filing: Alabama Power Company submits tariff filing per 35.13(a)(2)(iii: West Fork Solar LGIA Filing to be effective 2/15/2024.

Filed Date: 2/27/24.

Accession Number: 20240227-5125.

Comment Date: 5 p.m. ET 3/19/24.

Docket Numbers: ER24-1339-000.

Applicants: EDPR Scarlet II LLC.

Description: Baseline eTariff Filing: Market-Based Rate Application and Request for Expedited Action to be effective 2/28/2024.

Filed Date: 2/27/24.

Accession Number: 20240227-5153.

Comment Date: 5 p.m. ET 3/19/24.

Docket Numbers: ER24-1340-000.

Applicants: EDPR Scarlet II BESS LLC.

Description: Baseline eTariff Filing: Market-Based Rate Application and Request for Expedited Action to be effective 2/28/2024.

Filed Date: 2/27/24.

Accession Number: 20240227-5156.

Comment Date: 5 p.m. ET 3/19/24.

Docket Numbers: ER24-1341-000.

Applicants: Tri-State Generation and Transmission Association, Inc.

Description: § 205(d) Rate Filing: Northwest Rural Public Power District Withdrawal Agreement to be effective 4/28/2024.

Filed Date: 2/27/24.

Accession Number: 20240227-5170.

Comment Date: 5 p.m. ET 3/19/24.

Docket Numbers: ER24-1342-000.

Applicants: Pacific Gas and Electric Company.

Description: § 205(d) Rate Filing: WDT3 Revisions to Formula Rate: CGI Depreciation Rates to be effective 4/29/2024.

Filed Date: 2/27/24.

Accession Number: 20240227-5172.

Comment Date: 5 p.m. ET 3/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 27, 2024.
Debbie-Anne A. Reese,
Acting Secretary.

[FR Doc. 2024-04538 Filed 3-4-24; 8:45 am]

BILLING CODE 6717-01-P